FEDERAL COMMUNICATIONS COMMISSION

47 CFR Part 73

[DA 01-59; MM Docket No. 00-154; RM-9935]

Radio Broadcasting Services; Fair Haven, VT

AGENCY: Federal Communications Commission.

ACTION: Proposed rule; dismissal of.

SUMMARY: The Commission dismisses the request of Vermont Community Radio to allot Channel 223A to Fair Haven, VT, as the community's first local aural service. See 65 FR 54833, September 11, 2000. Neither the petitioner nor any other party filed an expression of continuing interest in the allotment.

FOR FURTHER INFORMATION CONTACT: Leslie K. Shapiro, Mass Media Bureau, (202) 418-2180.

SUPPLEMENTARY INFORMATION: This is a synopsis of the Commission's Report and Order, MM Docket No. 00-154, adopted January 3, 2001, and released January 12, 2001. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR part 73

Radio broadcasting.

Federal Communications Commission.
John A. Karousos,
Chief, Allocations Branch, Policy and Rules Division, Mass Media Bureau.

[FR Doc. 01-1984 Filed 1-25-01; 8:45 am]

BILLING CODE 6712-01-P